DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on July 7, 2014.

The meeting will include the review, discussion and evaluation of grant applications reviewed by the Initial Review Group, and involve an examination of confidential financial and business information as well as personal information concerning the applicants. Therefore, this meeting will be closed to the public as determined by the SAMHSA Administrator, in accordance with Title 5 U.S.C. 552b(c)(4) and (6) and (c)(9)(B) and 5 U.S.C. App. 2, Section 10(d).

Substantive program information, a summary of the meeting, and a roster of committee members may be obtained either by accessing the SAMHSA Committee's Web site after the meeting, http://nac.samhsa.gov/, or by contacting the council's Designated Federal Officer.

Committee Name: Substance Abuse and Mental Health Services, Administration Center for Substance Abuse Prevention, National Advisory Council.

Date/Time/Type: July 7, 2014 from 2pm to 3pm EDT: (CLOSED).

Place: Teleconference.

Contact: Matthew J. Aumen, Designated Federal Officer, SAMHSA CSAP NAC, 1 Choke Cherry Road, Rockville, Maryland 20857, Telephone: 240-276-2419, Fax: 240-276-2430 and Email: matthew.aumen@samhsa.hhs.gov.

Cathy J. Friedman,
Public Health Analyst, Substance Abuse and Mental Health, Services Administration.

[FR Doc. 2014-15568 Filed 7-2-14; 8:45 am]

BILLING CODE 4162-20-P